DEPARTMENT OF JUSTICE

Antitrust Division

Notice Pursuant to the National Cooperative Research and Production Act of 1993—Training & Readiness Accelerator II

Notice is hereby given that, on July 11, 2023, pursuant to section 6(a) of the National Cooperative Research and Production Act of 1993, 15 U.S.C. 4301 et seq. (“the Act”), Training & Readiness Accelerator II (“TReX II”) has filed written notifications simultaneously with the Attorney General and the Federal Trade Commission disclosing changes in its membership, nature and objective. The notifications were filed for the purpose of extending the Act's provisions limiting the recovery of antitrust plaintiffs to actual damages under specified circumstances. Specifically, 4C North America, Inc., McLean, VA; Action Engineering LLC, Golden, CO; Ad hoc Research Associates LLC, Havre de Grace, MD; Adjacent Link LLC, Bridgewater, NJ; Advanced Simulation Technology, Inc, Herndon, VA; Applied Information Sciences, Inc., Reston, VA; Applied Intuition, Inc., Mountain View, CA; Applied Visual Technology, Inc., Orlando, FL; Assured Information Security, Inc., Rome, NY; BAE Systems Technology Solutions & Services, Inc., Rockville, MD; Barbaricum LLC, Washington, DC; Beacon Industries, Inc., Newington, CT; BUNDLAR LLC, Chicago, IL; CACI, Inc.—Federal, Chantilly, VA; Calspan, Inc., Buffalo, NY; Carahsoft Technology Corporation, Reston, VA; CDW Government LLC, Vernon Hills, IL; Chimaera Science LLC dba Adaptive Immersion Technologies, Tampa, FL; Compendium Federal Technology (CFT), Lexington Park, MD; Continuum Dynamics, Inc., Ewing, NJ; Creative Microsystems Corporation, Waitsfield, VT; Dark Wolf Solutions LLC, Herndon, VA; Decisive Edge LLC, Bradenton, FL; Design Interactive, Inc., Orlando, FL; Discovery Machine, Inc., Williamsport, PA; DMAero LLC, Byron, GA; Doron Precision Systems, Inc., Binghamton, NY; Eduworks Corp., Dayton, OH; ElbitAmerica, Inc., Fort Worth, TX; Electro Standards Laboratory, Inc. dba Electro Standards Laboratories, Cranston, RI; EWA Warrior Services LLC, Herndon, VA; Exyn Technologies, Inc., Philadelphia, PA; Frontier Technology, Inc., Beavercreek, OH; General Dynamics Information Technology, Inc., Falls Church, VA; Georgia Tech Applied Research Corporation, Atlanta, GA; Gray Analytics, Inc., Huntsville, AL; Hodges Transportation, Inc. dba Nevada Automotive Test Center, Silver Springs, NV; iC-1 Solutions LLC, Reston, VA; Infinitas Engineering, Inc., Orlando, FL; Information Systems Laboratories, Inc., Poway, CA; Innovative Defense Technologies LLC, Arlington, VA; IntelliGenesis LLC, Columbia, MD; Invariant Corporation, Huntsville, AL; John H. Northrop & Associates, Inc., Clifton, VA; Kitware, Inc., Clifton Park, NY; KRI at Northeastern University LLC, Burlington, MA; Lukos LLC, Tampa, FL; ManTech Advanced Systems International, Inc., Herndon, VA; MicroHealth LLC, Vienna, VA; Millennium Corporation, Arlington, VA; NAG LLC dba NAG Marine, Norfolk, VA; NAL Research Corporation, Manassas, VA; National Strategic Research Institute, Lincoln, NE; NetImpact Strategies, Inc., Falls Church, VA; Noblis, Inc., Reston, VA; Northrop Grumman Amherst Systems Corporation, Buffalo, NY; nou Systems, Inc., Huntsville, AL; NTA, Inc., Huntsville, AL; Omni Fed LLC dba Omni Federal, Gainesville, VA; Pamunkey Indian Enterprises—Professional Services (PIE-PS), King William, VA; PeopleTec, Inc., Huntsville, AL; ProActive Technologies, Inc., Oviedo, FL; Radiation Monitoring Devices, Inc., Watertown, MA; Ravenswood Solutions, Inc., Fremont, CA; Rise8, Inc., Tampa, FL; S2 Corporation, Bozeman, MT; Saab, Inc., East Syracuse, NY; Sciumo, Inc., Odenton, MD; Senspex, Inc., Rio Rancho, NM; SimIS, Inc., Portsmouth, VA; SRC, Inc., North Syracuse, NY; Subsystem Technologies, Inc., Arlington, VA; Tangram Flex, Inc., Dayton, OH; Technical Systems Integrators, Longwood, FL; Technology, Modeling & Simulation & Training Consultants LLC, Geneva, FL; Teledyne FLIR Commercial Systems, Inc., Goleta, CA; Thales Defense & Security, Inc., Clarksburg, MD; ThayerMahan, Inc., Groton, CT; The Domenix Corporation, Chantilly, VA; Trideum Corporation, Huntsville, AL; Valkyrie Enterprises LLC, Virginia Beach, VA; Verity Integrated Systems, Inc., Huntsville, AL; Virginia Polytechnic Institute and State University, Blacksburg, VA; Vision Products LLC, Campbell, CA; VMware, Inc., Palo Alto, CA; WaveLink, Inc., Huntsville, AL; Wegmann USA, Inc., Lynchburg, VA; and World Wide Technology LLC, St. Louis, MO, have been added as parties to this venture. The changes in its nature and objectives are: The general area of TReX II's planned activities are to respond to requirements from the Army's Program Executive Officer for Simulation, Training, and Instrumentation (PEO STRI) to increase Warfighter readiness via modeling, simulation, education/training, experimental validation, and military readiness focused projects. TReX II's planned activity is to conduct research, development, and prototyping of projects and projects in the following technology areas: Modeling; Simulation; Education and Training; Experimental Validation; Readiness; and Information Operations.

No other changes have been made in either the membership or planned activity of the group research project. Membership in this group research project remains open, and TReX II intends to file additional written notifications disclosing all changes in membership.

On February 17, 2023, TReX II filed its original notification pursuant to section 6(a) of the Act. The Department of Justice published a notice in the Federal Register pursuant to section 6(b) of the Act on June 13, 2023 (88 FR 38536).

The last notification was filed with the Department on February 17, 2023. A notice was published in the Federal Register pursuant to section 6(b) of the Act on June 13, 2023 (88 FR 38536).

Suzanne Morris,
Deputy Director Civil Enforcement Operations, Antitrust Division.

[FR Doc. 2023-20781 Filed 9-25-23; 8:45 am]

BILLING CODE P